NATIONAL SCIENCE FOUNDATION

Notice of Permit Modifications Issued Under the Antarctic Conservation Act of 1978, Public Law 95-541

SUMMARY: The National Science Foundation modified a permit to conduct activities regulated under the Antarctic Conservation Act of 1978 (Public Law 95-541).

FOR FURTHER INFORMATION CONTACT: Joyce Jatko, Office of Polar Programs, Room 755, National Science Foundation, 4201 Wilson Boulevard, Arlington, VA 22230.

DESCRIPTION OF PERMIT AND MODIFICATION: On September 25, 1998, the National Science Foundation issued a permit (ACA #99-010) to Dr. Rennie S. Holt after posting a notice in the August 27, 1998 Federal Register. No public comments were received. A request to modify the permit was posted in the Federal Register on December 23, 1999. No public comments were received. The modification, issued by the Foundation on January 27, 2000, allows for tooth extraction from up to 100 adult Antarctic fur seals (Arctocephalus gazella) per year for age determination. The tooth extractions will be taken from animals already captured for other permitted procedures. This is part of an ongoing study of Antarctic fur seals by the U.S. Antarctic Marine Living Resources (AMLR) Program.

LOCATION: Cape Shirreff, Livingston Island (ASPA #149), the South Shetland Islands, Antarctic Peninsula.

DATES: January 10, 2000-April 1, 2001.

Joyce Jatko,
Acting Permit Officer.

[FR Doc. 00-2925 Filed 2-8-00; 8:45 am]

BILLING CODE 7555-01-M